ENVIRONMENTAL PROTECTION AGENCY

[EPA-HQ-OAR-2007-0265; FRL-9928-64-OAR]

Proposed Information Collection Request; Comment Request; Fine Particulate Matter (PM2.5) NAAQS Implementation Rule (Renewal)

AGENCY: Environmental Protection Agency (EPA).

ACTION: Notice.

SUMMARY: The U.S. Environmental Protection Agency (EPA) is planning to submit an information collection request (ICR), “Fine Particulate Matter (PM2.5) NAAQS Implementation Rule (Renewal)” (EPA ICR No. 2258.04, OMB Control No. 2060-0611), to the Office of Management and Budget (OMB) for review and approval in accordance with the Paperwork Reduction Act (PRA) (44 U.S.C. 3501 et seq.). Before doing so, the EPA is soliciting public comments on specific aspects of the proposed information collection as described below. This is a proposed renewal of a currently approved information collection which was originally approved in conjunction with the EPA's now-remanded 2007 final rule addressing implementation-related requirements for the 1997 PM2.5 National Ambient Air Quality Standards (NAAQS) and renewed twice since then. On March 23, 2015, the EPA also proposed a new ICR associated with its Notice of Proposed Rulemaking that would replace the remanded 2007 PM2.5 NAAQS Implementation Rule. Until that ICR is approved, the existing ICR will remain in effect, subject to approval of this proposed renewal.

DATES: Comments must be submitted on or before July 31, 2015.

ADDRESSES: Submit your comments, referencing Docket ID No. EPA-HQ-OAR-2007-0265, online using http://www.regulations.gov (our preferred method), or by mail to: EPA Docket Center, Environmental Protection Agency, Mail Code 28221T, 1200 Pennsylvania Ave. NW., Washington, DC 20460.

The EPA's policy is that all comments received will be included in the public docket without change including any personal information provided, unless the comment includes profanity, threats, information claimed to be Confidential Business Information, or other information whose disclosure is restricted by statute.

FOR FURTHER INFORMATION CONTACT: Mr. Cecil (Butch) Stackhouse, Office of Air Quality Planning and Standards, U.S. Environmental Protection Agency, by phone at (919) 541-5208 or by email at stackhouse.butch@epa.gov.

SUPPLEMENTARY INFORMATION: Supporting documents which explain in detail the information that the EPA will be collecting are available in the public docket for this ICR. The docket can be viewed online at http://www.regulations.gov, or in person at the EPA Docket Center, WJC West, Room 3334, 1301 Constitution Ave. NW., Washington, DC. The telephone number for the Docket Center is (202) 566-1744. For additional information about EPA's public docket, visit http://www.epa.gov/dockets.

Pursuant to section 3506(c)(2)(A) of the PRA, the EPA is soliciting comments and information to enable it to: (i) Evaluate whether the proposed collection of information is necessary for the proper performance of the functions of the agency, including whether the information will have practical utility; (ii) evaluate the accuracy of the agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. The EPA will consider the comments received and amend the ICR as appropriate. The final ICR package will then be submitted to OMB for review and approval. At that time, the EPA will issue another Federal Register notice to announce the submission of the ICR to OMB and the opportunity to submit additional comments to OMB. An agency may not conduct or sponsor and a person is not required to respond to a collection of information unless it displays a currently valid OMB control number.

Abstract: The final implementation rule for the 1997 PM2.5 NAAQS (2007 PM2.5 NAAQS Implementation Rule) was promulgated on April 25, 2007 (79 FR 20586). This rule provided the framework of Clean Air Act (CAA) requirements for air agencies to meet in attainment plans to achieve the 1997 PM2.5 NAAQS in designated nonattainment areas. States also applied this framework to develop attainment plans for areas designated nonattainment for the 24-hour PM2.5 NAAQS revised by the agency in 2006 (74 FR 58688, November 13, 2009; 76 FR 6056; February 3, 2011).

The ICR originally finalized with the 2007 PM2.5 NAAQS Implementation Rule had estimated, for the 3 years following the ICR approval date, the burden to air agencies to develop and submit, and the burden to the EPA to review and to approve or disapprove, attainment plans to meet the requirements prescribed in CAA sections 110 and part D, subpart 1 of title I. A PM2.5 attainment plan contains rules and other measures designed to improve air quality and achieve the NAAQS by the deadlines established under the CAA. It also must address several additional CAA requirements related to demonstrating timely attainment, and must contain contingency measures in the event the nonattainment area does not achieve reasonable further progress throughout the attainment period or in the event the area does not attain the NAAQS by its attainment date. After a state submits an attainment plan, the CAA requires the EPA to approve or disapprove the plan. Tribes may develop or submit attainment plans, but are not required to do so.

On January 4, 2013, the U.S. Court of Appeals for the District of Columbia Circuit (DC Circuit) remanded the 2007 PM2.5 NAAQS Implementation Rule, concluding that the agency had erred in implementing the PM2.5 NAAQS according to only the general nonattainment area planning provisions of subpart 1, part D, title I of the CAA, rather than in accordance with the PM-specific planning requirements of subpart 4, part D, title I of the CAA and certain general planning provisions in subpart 1. On March 23, 2015, the EPA proposed a new implementation rule (80 FR 15340) consistent with the attainment planning requirements under CAA subparts 1 and 4 of part D, title I, that would apply to ongoing implementation efforts by air agencies in areas designated nonattainment for the 1997 and 2006 PM2.5 NAAQS, as well as to new efforts in areas recently designated nonattainment for the most recent 2012 PM2.5 NAAQS. As part of its proposed implementation rule, the EPA also proposed a new ICR to cover the 3-year period after the ICR is approved by OMB, which would account for both the burden associated with plan revisions related to ongoing implementation efforts for the 1997 and 2006 PM2.5 NAAQS as well as the additional cost burden to air agencies developing attainment plans for areas designated nonattainment for the 2012 PM2.5 NAAQS. Once final, the new ICR will supersede the existing ICR—for which the EPA is proposing renewal in this action—for purposes of PM2.5 NAAQS implementation. In the meantime, while the EPA completes its current rulemaking and finalizes the new ICR, the agency is hereby proposing a renewal of the existing ICR that would continue to apply during this interim period.

Respondents/affected entities: State and local governments.

Respondent's obligation to respond: Mandatory.

Currently approved estimated number of respondents: 95 (total).

Frequency of response: Once per triggering event [i.e., each air agency with a newly-designated nonattainment area or an area reclassified to a higher classification is required to revise its State Implementation Plan (SIP)].

Currently approved total estimated burden: 175,400 hours (per year). Burden is defined at 5 CFR 1320.03(b).

Total estimated cost: $0 annualized capital or operation & maintenance costs.

Changes in estimates: The EPA expects there to be a reduction in excess of 50 percent in the total estimated respondent burden compared with the information collection that is currently approved by OMB. This decrease is due to the fact that the EPA estimates that only six areas may be candidates for reclassification triggering new submittal requirements for the 2006 PM2.5 NAAQS, as compared to 31 nonattainment areas initially designated for that NAAQS. In addition, one of the six areas (San Joaquin Valley, CA) remains nonattainment for the 1997 PM2.5 NAAQS. The burden estimate, detailed in the supporting statement located in the docket for this proposed renewal, accounts for new SIP revisions from states with nonattainment areas potentially subject to reclassification.

Dated: May 21, 2015.
Stephen D. Page,
Director, Office of Air Quality Planning and Standards, Office of Air and Radiation.

[FR Doc. 2015-13131 Filed 5-29-15; 8:45 am]

BILLING CODE 6560-50-P